DEPARTMENT OF TRANSPORTATION

Research and Special Programs Administration (RSPA)

[Docket No. RSPA-98-4470]

Pipeline Safety: Meetings of the Pipeline Safety Advisory Committees

AGENCY: Office of Pipeline Safety, Research and Special Programs Administration, DOT.

ACTION: Notice.

SUMMARY: The Research and Special Programs Administration's (RSPA) Office of Pipeline Safety (OPS) will convene a meeting of the Technical Pipeline Safety Standards Committee (TPSSC) to discuss and vote on the Notice of Proposed Rulemaking, “Pipeline Integrity Management for Gas Transmission Pipelines in High Consequence Areas” (67 FR 4278) and on the associated risk assessment. In addition, RSPA/OPS will brief the TPSSC on the draft Cost-Benefit Study of Excess Flow Valve Installation on Gas Service Lines completed by RSPA's Volpe National Transportation Systems Center. Other briefings and votes may include proposals on periodic underwater inspection and on clarifications and updates to the liquefied natural gas facilities section of the pipeline safety regulations.

DATES: The meetings will be held on Wednesday, May 28 from 1:30 p.m. to 5 p.m.; and Thursday, May 29 from 9 to 5 p.m. Friday, May 29 is reserved should additional business need to be conducted.

ADDRESSES: Members of the public may attend the meetings at Loews L'Enfant Plaza Hotel, 480 L'Enfant Plaza, SW., Ballroom A—Lobby Level, Washington, DC.

An opportunity will be provided for the public to make short statements on the topics under discussion. Anyone wishing to make an oral statement should notify Jean Milam, (202) 493-0967, not later than May 19, 2003, on the topic of the statement and the length of the presentation. The presiding officer at each meeting may deny any request to present an oral statement and may limit the time of any presentation.

You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Information on Services for Individuals With Disabilities

For information on facilities or services for individuals with disabilities or to request special assistance at the meeting, contact Jean Milam at (202) 493-0967.

FOR FURTHER INFORMATION CONTACT: Cheryl Whetsel, OPS, (202) 366-4431 or Richard Huriaux, OPS, (202) 366-4565, regarding the subject matter of this notice.

SUPPLEMENTARY INFORMATION: The TPSSC is a statutorily mandated advisory committee that advises RSPA/OPS on proposed safety standards for gas pipelines. The advisory committee is constituted in accordance with section 10(a)(2) of the Federal Advisory Committee Act (Pub. L. 92-463, 5 U.S.C. App. 1). The committee consists of 15 members—five each representing government, industry, and the public. The TPSSC is tasked with determining reasonableness, cost-effectiveness, and practicability of proposed pipeline regulations.

Federal law requires that RSPA/OPS submit cost-benefit analyses and risk assessment information on proposed safety standards to the advisory committees. The TPSSC evaluates the merit of the data and methods used within the analyses, and provides recommendations relating to the cost-benefit analyses.

Authority: 49 U.S.C. 60102, 60115.

Issued in Washington, DC, on April 25, 2003.
Stacey L. Gerard,
Associate Administrator for Pipeline Safety.

[FR Doc. 03-10691 Filed 4-30-03; 8:45 am]

BILLING CODE 4910-60-P